DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Butte-Silver Bow County, Montana
Docket No. FEMA-B-1149
Montana | Unincorporated Areas of Butte-Silver Bow County | Basin Creek | Approximately 1,000 feet upstream of I-90 | +5469
|  |  | Approximately 40 feet downstream of Mormon Church Road | +5494
Montana | Unincorporated Areas of Butte-Silver Bow County | Sand Creek | Approximately 90 feet downstream of Evans Avenue | +5456
|  |  | Approximately 50 feet upstream of Chicago, Milwaukee, St. Paul and Pacific Railroad | +5547
Montana | Unincorporated Areas of Butte-Silver Bow County | Sand Creek Diversion | Approximately 500 feet upstream of Elizabeth Warren Avenue | +5484
|  |  | Approximately 100 feet downstream of Harrison Avenue | +5514
* National Geodetic Vertical Datum. + North American Vertical Datum. # Depth in feet above ground. ‸ Mean Sea Level, rounded to the nearest 0.1 meter.
ADDRESSES
Unincorporated Areas of Butte-Silver Bow County
Maps are available for inspection at 155 West Granite Street, Room 108, Butte, MT 59701.

>

Flooding source(s) | Location of referenced elevation | * Elevation in feet (NGVD) + Elevation in feet (NAVD) # Depth in feet above ground ‸ Elevation in meters (MSL) Modified | Communities affected
Fremont County, Colorado, and Incorporated Areas
Docket No. FEMA-B-1152
Arkansas River | Approximately 600 feet upstream of the confluence with Coal Creek East Overflow | +5129 | City of Florence, Unincorporated Areas of Fremont County.
| Approximately 1,330 feet downstream of Minnequa Dam Road | +5206
Coal Creek | Approximately 0.99 mile upstream of Railroad Street | +5222 | City of Florence, Town of Coal Creek, Unincorporated Areas of Fremont County.
| Approximately 0.57 mile upstream of Coal Creek Drive | +5435
Coal Creek Tributary 1 | At the confluence with Coal Creek | +5335 | Town of Coal Creek, Unincorporated Areas of Fremont County.
| Approximately 1,600 feet upstream of Main Street | +5420
Coal Creek Tributary 2 | Just upstream of the confluence with Coal Creek | +5400 | Town of Coal Creek, Unincorporated Areas of Fremont County.
| Approximately 0.75 mile upstream of the confluence with Coal Creek | +5489
Coal Creek Tributary 3 | Just upstream of the confluence with Coal Creek | +5422 | Town of Coal Creek, Unincorporated Areas of Fremont County.
| Approximately 1,100 feet upstream of the confluence with Coal Creek | +5440
Forked Gulch | Approximately 300 feet upstream of the confluence with the Arkansas River | +5336 | City of Canon City, Unincorporated Areas of Fremont County.
| Approximately 275 feet upstream of North Eagle Drive | +5888
Oak Creek | Just upstream of the unnamed railroad | +5253 | Town of Rockvale, Town of Williamsburg, Unincorporated Areas of Fremont County.
| Approximately 1,350 feet upstream of Mesa Avenue | +5471
South Oak Creek | Just upstream of the confluence with Oak Creek | +5424 | Town of Rockvale, Unincorporated Areas of Fremont County.
| Approximately 580 feet upstream of Oak Creek Avenue | +5438
West Branch Forked Gulch | Approximately 90 feet upstream of Temple Canyon Road | +5473 | City of Canon City, Unincorporated Areas of Fremont County.
| Approximately 525 feet upstream of Lela Lane | +6082
West Oak Creek | Just upstream of the confluence with Oak Creek | +5268 | Town of Rockvale, Town of Williamsburg, Unincorporated Areas of Fremont County.
| Approximately 0.87 mile upstream of Smith Gulch Road | +5534
* National Geodetic Vertical Datum. + North American Vertical Datum. # Depth in feet above ground. ‸ Mean Sea Level, rounded to the nearest 0.1 meter.
ADDRESSES
City of Canon City
Maps are available for inspection at 128 Main Street, Canon City, CO 81212.
City of Florence
Maps are available for inspection at 300 West Main Street, Florence, CO 81226.
Town of Coal Creek
Maps are available for inspection at 400 Railroad Street, Coal Creek, CO 81221.
Town of Rockvale
Maps are available for inspection at 510 Railroad Street, Rockvale, CO 81244.
Town of Williamsburg
Maps are available for inspection at 1 John Street, Williamsburg, CO 81226.
Unincorporated Areas of Fremont County
Maps are available for inspection at 615 Macon Avenue, Canon City, CO 81212.
Mason County, Illinois, and Incorporated Areas
Docket Nos. FEMA-B-1061 and FEMA-B-1093
Illinois River | Approximately 0.2 mile upstream of 750 North extended | +452 | Unincorporated Areas of Mason County.
| Approximately 0.74 mile upstream of Walnut Street extended | +452
| Approximately 0.12 mile upstream of 2500 North extended | +454
| Approximately 0.1 mile upstream of 2600 North | +454
Sangamon River | Approximately 0.15 mile upstream of County Road 800 E | +456 | Unincorporated Areas of Mason County.
| Approximately 0.3 mile upstream of State Highway 78 | +461
Ponding | North boundary: Private drive approximately 230 feet north of north entrance to Linwood Lake Estates Road/East boundary: Abandoned road approximately 660 feet west of State Highway 78/South boundary: Private drive approximately 665 feet north of beginning of North Elm Street/West boundary: State Highway 78 | +466 | Unincorporated Areas of Mason County.
Ponding | North boundary: Approximately 2,470 feet north of County Highway 1/East boundary: Approximately 0.86 mile east of Olive Street along County Highway 1/South boundary: 385 feet south of County Highway 1/West boundary: Approximately 0.49 mile east of Olive Street along County Highway 1 | +471 | Unincorporated Areas of Mason County.
Ponding | North boundary: Approximately 1,300 feet south of County Highway 1/East boundary: Approximately 0.54 mile east of southeastern tip of East Main Street/South boundary: Approximately 0.72 mile south of County Highway 1/West boundary: Approximately 300 feet east of southeastern tip of East Main Street | +472 | Unincorporated Areas of Mason County.
Ponding | North boundary: 330 feet south of B Street along State Highway 78/East boundary: At State Highway 78/South boundary: Approximately 810 feet south of B Street along State Highway 78/West boundary: 425 feet west of State Highway 78 | +465 | Unincorporated Areas of Mason County.
Ponding | North boundary: Approximately 1,030 feet north of East 800 North Road along North 1100 East Road/East boundary: Approximately 930 feet east of North 1100 East Road/South boundary: Approximately 1,580 feet south of intersection of East 800 North Road and North 1100 East Road/West boundary: Approximately 1,950 feet east of State Highway 78 | +465 | Unincorporated Areas of Mason County.
Ponding | North boundary: At East 800 North Road/East boundary: Approximately 1,380 feet east of State Highway 78/South boundary: Approximately 275 feet north of East 750 North Road/West boundary: At State Highway 78 | +462 | Unincorporated Areas of Mason County.
Ponding | North boundary: Approximately 430 feet north of Mason Street/East boundary: Approximately 310 feet west of William Boulevard/South boundary: At Mason Street/West boundary: At Mason Street and railroad crossing | +468 | Unincorporated Areas of Mason County.
Ponding | North boundary: Approximately 240 feet north of Mason Street/East boundary: Approximately 0.59 mile west of North 1800 East Road/South boundary: Approximately 1,090 feet north of U.S. Route 136/West boundary: Approximately 1,050 feet east of William Boulevard | +472 | Unincorporated Areas of Mason County.
Ponding | North boundary: Approximately 125 feet south of Hillcrest Court extended/East boundary: At railroad/South boundary: Approximately 500 feet south of Hillcrest Court extended/West boundary: Approximately 75 feet west of railroad | +476 | Unincorporated Areas of Mason County.
Ponding | North boundary: Approximately 970 feet south of State Highway 97 railroad crossing/East boundary: Approximately 480 feet from end of Hillcrest Court/South boundary: Approximately 1,550 feet south of State Highway 97 railroad crossing/West boundary: At railroad | +476 | Unincorporated Areas of Mason County.
Ponding | North boundary: Approximately 0.51 mile north of East 1500 North Road/East boundary: Approximately 140 feet west of State Highway 97/South boundary: Approximately 0.47 mile north of East 1500 North Road/West boundary: Approximately 465 feet west of State Highway 97 | +476 | Unincorporated Areas of Mason County.
Ponding | North boundary: Approximately 1,470 feet north of East 1500 North Road/East boundary: Approximately 0.6 mile west of North 1800 East Road/South boundary: Approximately 940 feet south of intersection of State Highway 97 and East 1500 North Road/West boundary: Approximately 625 feet west of intersection of State Highway 97 and East 1500 North Road | +480 | Unincorporated Areas of Mason County.
Ponding | North boundary: Approximately 0.68 mile north of East 1500 North Road/East boundary: Approximately 0.41 mile west of North 1800 East Road/South boundary: Approximately 250 feet south of East 1500 North Road/West boundary: Approximately 1,460 feet west of State Highway 97 | +480 | Unincorporated Areas of Mason County.
Ponding | North boundary: Private drive approximately 665 feet north of beginning of North Elm Street/East boundary: Approximately 1,000 feet east of Vine Street/South boundary: Approximately 315 feet north of East 800 North Road/west boundary: Approximately at State Highway 78 | +463 | Village of Bath.
Ponding | North boundary: Approximately 250 feet south of County Highway 1/East boundary: Approximately 1,950 feet east of intersection of Olive Street and Cedar Street/South boundary: Approximately 2,000 feet south of intersection of Hickory Street and Main Street/West boundary: 980 feet east of southern tip of Locust Street | #1 | Village of Bath.
Ponding | North boundary: At Lincoln Street/East boundary: 50 feet west of State Highway 78/South boundary: At northernmost entrance of Bath Cemetery/West boundary: Approximately 400 feet west of State Highway 78 along 1st Street | #3 | Village of Bath.
Ponding | North boundary: 225 feet south of 4th Street/East boundary: Approximately 140 feet east of State Highway 78/South boundary: Approximately 200 feet north of B Street/West boundary: At State Highway 78 | +463 | Village of Bath.
Ponding | North boundary: Approximately 470 feet north of Mason Street/East boundary: Approximately 1,030 feet east of William Boulevard along Mason Street/South boundary: Approximately 1,300 feet north of Laurel Street/West boundary: At railroad (560 feet east of Teal Drive) | +468 | City of Havana.
Ponding | North boundary: Approximately 80 feet south of intersection of Tinkham Street and Lincoln Street/East boundary: Approximately 535 feet west of Promenade Street/South boundary: Approximately 375 feet south of intersection Tinkham Street and Lincoln Street/West boundary: Approximately 610 feet west of Promenade Street | +472 | City of Havana.
Ponding | North boundary: Approximately 810 feet south of Wagner Avenue/East boundary: Approximately 580 feet east of Pear Street/South boundary: Approximately 1,460 feet south of Wagner Avenue/West boundary: At Pear Street | +469 | City of Havana.
* National Geodetic Vertical Datum. + North American Vertical Datum. # Depth in feet above ground. ‸ Mean Sea Level, rounded to the nearest 0.1 meter.
ADDRESSES
City of Havana
Maps are available for inspection at City Hall, 227 West Main Street, Havana, IL 62644.
Unincorporated Areas of Mason County
Maps are available for inspection at the Mason County Courthouse, Zoning Office, 125 North Plum Street, Havana, IL 62644.
Village of Bath
Maps are available for inspection at the Village Hall, 205 East 1st Street, Bath, IL 62617.
Iosco County, Michigan (All Jurisdictions)
Docket No. FEMA-B-1147
Cedar Lake | Entire shoreline in Iosco County | +609 | Township of Oscoda.
Lake Huron | Entire shoreline in the Township of Alabaster | +584 | Township of Alabaster.
* National Geodetic Vertical Datum. + North American Vertical Datum. # Depth in feet above ground. ‸ Mean Sea Level, rounded to the nearest 0.1 meter.
ADDRESSES
Township of Alabaster
Maps are available for inspection at 1716 South U.S. Route 23, Tawas City, MI 48763.
Township of Oscoda
Maps are available for inspection at 110 South State Street, Oscoda, MI 48750.
Sanilac County, Michigan (All Jurisdictions)
Docket No. FEMA-B-1128
Lake Huron | Entire shoreline within Sanilac County | +584 | Township of Delaware, Township of Forester, Township of Lexington, Township of Sanilac, Township of Worth, Village of Forestville, Village of Lexington, Village of Port Sanilac.
* National Geodetic Vertical Datum. + North American Vertical Datum. # Depth in feet above ground. ‸ Mean Sea Level, rounded to the nearest 0.1 meter.
ADDRESSES
Township of Delaware
Maps are available for inspection at 3375 Charleston Road, Minden City, MI 48456.
Township of Forester
Maps are available for inspection at 5680 East Deckerville Road, Deckerville, MI 48427.
Township of Lexington
Maps are available for inspection at 7227 Huron Avenue, Suite 200, Lexington, MI 48450.
Township of Sanilac
Maps are available for inspection at 20 North Ridge Street, Port Sanilac, MI 48469.
Township of Worth
Maps are available for inspection at 6903 South Lakeshore Road, Lexington, MI 48450.
Village of Forestville
Maps are available for inspection at 5605 Cedar Avenue, Forestville, MI 48434.
Village of Lexington
Maps are available for inspection at 7227 Huron Avenue, Suite 100, Lexington, MI 48450.
Village of Port Sanilac
Maps are available for inspection at 56 North Ridge Street, Port Sanilac, MI 48469.
Greene County, Mississippi, and Incorporated Areas
Docket No.: FEMA-B-1158
Leaf River | Approximately 1.1 miles downstream of U.S. Route 98 | +74 | Unincorporated Areas of Greene County.
| Approximately 4.2 miles upstream of U.S. Route 98 | +85
* National Geodetic Vertical Datum. + North American Vertical Datum. # Depth in feet above ground. ‸ Mean Sea Level, rounded to the nearest 0.1 meter.
ADDRESSES
Unincorporated Areas of Greene County
Maps are available for inspection at the Greene County Courthouse, 400 Main Street, Leakesville, MS 39451.
Dakota County, Nebraska, and Incorporated Areas
Docket No. FEMA-B-1133
Crystal Cove | Just upstream of I-129 along U.S. Route 77 | +1086 | City of South Sioux City.
Crystal Lake | From just upstream of 152nd Street to just downstream of U.S Route 77 | +1086 | City of South Sioux City, Unincorporated Areas of Dakota County.
Crystal Lake Northwest | From just downstream of Golf Road to just upstream of 142nd Street | +1093 | City of South Sioux City.
Crystal Lake-Sump Area | From the intersection of Old Sawmill Road and unnamed road to approximately 780 feet south, extending approximately 1,050 feet west along Old Sawmill Road | +1098 | City of South Sioux City.
Missouri River | Approximately 1 mile downstream of the confluence with Omaha Creek Ditch | +1069 | City of Dakota City, City of South Sioux City, Unincorporated Areas of Dakota County.
| Approximately 0.9 mile upstream of the confluence with Aowa Creek | +1102
Old Silver Lake Creek | At the confluence with the Missouri River | +1090 | City of South Sioux City.
| Approximately 200 feet downstream of West 29th Street | +1092
* National Geodetic Vertical Datum. + North American Vertical Datum. # Depth in feet above ground. ‸ Mean Sea Level, rounded to the nearest 0.1 meter.
ADDRESSES
City of Dakota City
Maps are available for inspection at 1511 Broadway Street, Dakota City, NE 68731.
City of South Sioux City
Maps are available for inspection at 1615 1st Avenue, South Sioux City, NE 68776.
Unincorporated Areas of Dakota County
Maps are available for inspection at 1601 Broadway Street, Dakota City, NE 68731.
Washington County, Nebraska, and Incorporated Area
Docket No. FEMA-B-1147
Cameron Ditch | At the confluence with the Missouri River | +1009 | City of Blair.
| Just downstream of Washington Street | +1009
Cauble Creek | Just upstream of U.S. Route 75 (Herman Boulevard) | +1064 | City of Blair.
| Approximately 1,500 feet west of Nebraska Highway 31 | +1243
Cauble Creek East Tributary | At the confluence with Cauble Creek | +1036 | City of Blair.
| Approximately 100 feet downstream of Pinewood Drive | +1036
Missouri River | At the Douglas County boundary | +995 | City of Blair, City of Fort Calhoun, Unincorporated Areas of Washington County, Village of Herman.
| At the Burt County boundary | +1018
Unnamed Creek | Approximately 400 feet downstream of South 10th Street | +1066 | City of Blair.
| Approximately 1,500 feet upstream of Pi Hack Street | +1233
* National Geodetic Vertical Datum. + North American Vertical Datum. # Depth in feet above ground. ‸ Mean Sea Level, rounded to the nearest 0.1 meter.
ADDRESSES
City of Blair
Maps are available for inspection at 218 South 16th Street, Blair, NE 68008.
City of Fort Calhoun
Maps are available for inspection at 110 South 14th Street, Fort Calhoun, NE 68023.
Unincorporated Areas of Washington County
Maps are available for inspection at 111 West 4th Street, Kennard, NE 68034.
Village of Herman
Maps are available for inspection at 504 U.S. Route 75, Herman, NE 68029.
Fairfield County, Ohio, and Incorporated Areas
Docket No. FEMA-B-1109
Baltimore Tributary | At the confluence with Pawpaw Creek | +847 | Unincorporated Areas of Fairfield County, Village of Baltimore.
| Approximately 0.41 mile downstream of Roley Road | +860
Buckeye Lake | Entire shoreline | +893 | Unincorporated Areas of Fairfield County, Village of Millersport.
Clark Run | At the confluence with Rush Creek | +804 | Unincorporated Areas of Fairfield County.
| Approximately 586 feet upstream of the confluence with Rush Creek | +805
Claypool Run | At the confluence with Ohio Canal | +838 | Unincorporated Areas of Fairfield County.
| Approximately 200 feet downstream of Brook Road | +909
Crumley Creek | At the confluence with Hunters Run | +905 | Unincorporated Areas of Fairfield County.
| Approximately 850 feet upstream of the confluence with Hunters Run | +914
Georges Creek | Approximately 1,588 feet downstream of Conrail Railroad | +798 | City of Pickerington.
| At the upstream side of Pickerington Ridge Road | +815
Greenfield Creek | At the confluence with Ohio Canal | +830 | Unincorporated Areas of Fairfield County.
| Approximately 1,400 feet upstream of Coonpath Road | +898
Greenfield Creek Escape | At the confluence with Claypool Run | +839 | Unincorporated Areas of Fairfield County.
| Approximately 2,000 feet downstream of Election House Road | +854
Greenfield Creek Split | At the confluence with Greenfield Creek | +865 | Unincorporated Areas of Fairfield County.
| Approximately 2,000 feet upstream of the confluence with Greenfield Creek | +872
Hocking River | Approximately 100 feet downstream of Sugar Grove Road | +808 | City of Lancaster, Unincorporated Areas of Fairfield County.
| Approximately 650 feet upstream of the confluence with Wilson Creek | +886
Hocking River Lateral D | At the confluence with the Hocking River | +826 | City of Lancaster.
| Approximately 125 feet downstream of Collins Road | +830
Hunters Run | At the confluence with the Hocking River | +815 | City of Lancaster, Unincorporated Areas of Fairfield County.
| Approximately 250 feet downstream of Mt. Zion Road | +967
Ohio Canal | At the confluence with the Hocking River | +825 | City of Lancaster, Unincorporated Areas of Fairfield County.
| At the confluence with Ohio Canal Lateral A | +844
Ohio Canal Lateral A | At the confluence with Ohio Canal | +844 | Unincorporated Areas of Fairfield County.
| Approximately 705 feet downstream of U.S. Route 33 | +848
Pawpaw Creek | At the confluence with Walnut Creek | +844 | Unincorporated Areas of Fairfield County, Village of Baltimore.
| Approximately 1,169 feet upstream of North Main Street | +868
Rush Creek | Approximately 0.8 mile downstream of the confluence with Clark Run | +800 | Unincorporated Areas of Fairfield County.
| Approximately 283 feet upstream of the confluence with Clark Run | +803
South Fork Licking River | At the upstream side of Walnut Road at the west crossing of the South Fork Licking River | +886 | Unincorporated Areas of Fairfield County.
| At the upstream side of Walnut Road at the east crossing of the South Fork Licking River | +892
Stonewall Creek | At the confluence with Hunters Run | +860 | Unincorporated Areas of Fairfield County.
| Approximately 0.46 mile upstream of U.S. Route 22 | +899
Sycamore Creek | At the confluence with Walnut Creek | +773 | City of Pickerington, Unincorporated Areas of Fairfield County.
| Approximately 505 feet upstream of DeCarlo Lane | +1019
Tributary B | At the upstream side of Paradise Road | +791 | Unincorporated Areas of Fairfield County.
| Approximately 956 feet upstream of Paradise Road | +791
Unnamed Tributary to Sycamore Creek | At the confluence with Sycamore Creek | +841 | City of Pickerington, Unincorporated Areas of Fairfield County.
| Approximately 0.44 mile upstream of Doty Road | +881
Unnamed Tributary to Walnut Creek (backwater effects from Walnut Creek) | At the confluence with Walnut Creek | +867 | Unincorporated Areas of Fairfield County, Village of Thurston.
| Approximately 1,240 feet upstream of the confluence with Walnut Creek | +867
Willow Run | At the confluence with Sycamore Creek | +816 | City of Pickerington, Unincorporated Areas of Fairfield County.
| Approximately 250 feet downstream of Refugee Road | +918
Wilson Creek | At the confluence with the Hocking River | +884 | Unincorporated Areas of Fairfield County.
| Approximately 200 feet downstream of Mt. Zion Road | +903
* National Geodetic Vertical Datum. + North American Vertical Datum. # Depth in feet above ground. ‸ Mean Sea Level, rounded to the nearest 0.1 meter.
ADDRESSES
City of Lancaster
Maps are available for inspection at 121 East Chestnut Street, Lancaster, OH 43130.
City of Pickerington
Maps are available for inspection at 100 Lockville Road, Pickerington, OH 43137.
Unincorporated Areas of Fairfield County
Maps are available for inspection at 210 East Main Street, Lancaster, OH 43130.
Village of Baltimore
Maps are available for inspection at 103 West Market Street, Baltimore, OH 42105.
Village of Millersport
Maps are available for inspection at 2245 Refugee Street, Millersport, OH 43046.
Village of Thurston
Maps are available for inspection at 2215 Main Street, Thurston, OH 43157.
Butte County, South Dakota, and Incorporated Areas
Docket No. FEMA-B-1155
Belle Fourche River | At the upstream side of U.S. Route 212 | +3008 | City of Belle Fourche, Unincorporated Areas of Butte County.
| Approximately 0.7 mile upstream of Fairground Road | +3019
Hay Creek | Approximately 500 feet downstream of U.S. Route 85 | +3042 | City of Belle Fourche, Unincorporated Areas of Butte County.
| Approximately 0.9 mile downstream of Black Angus Lane | +3089
Redwater River | Approximately 1,200 feet downstream of U.S. Route 212B | +3016 | City of Belle Fourche, Unincorporated Areas of Butte County.
| Approximately 700 feet upstream of U.S. Route 212B | +3023
Willow Creek | Approximately 0.5 mile downstream of Snoma Street | +3022 | City of Belle Fourche, Unincorporated Areas of Butte County.
| Approximately 1,650 feet downstream of West Wood Road | +3183
* National Geodetic Vertical Datum. + North American Vertical Datum. # Depth in feet above ground. ‸ Mean Sea Level, rounded to the nearest 0.1 meter.
ADDRESSES
City of Belle Fourche
Maps are available for inspection at 511 6th Avenue, Belle Fourche, SD 57717.
Unincorporated Areas of Butte County
Maps are available for inspection at 830 6th Avenue, Belle Fourche, SD 57717.
Custer County, South Dakota, and Incorporated Areas
Docket No. FEMA-B-1155
Battle Creek | Approximately 1.6 miles downstream of Chicago and Northwest Railroad | +3262 | Town of Hermosa, Unincorporated Areas of Custer County.
| Approximately 600 feet upstream of Paradise Road | +3388
Ferguson Split Flow-Battle Creek | Approximately 0.5 mile downstream of Fairgrounds Place | +3260 | Town of Hermosa, Unincorporated Areas of Custer County.
| Approximately 130 feet upstream of Donna Street | +3292
Grace Coolidge Creek | Approximately 180 feet downstream of the divergence from Battle Creek | +3341 | Unincorporated Areas of Custer County.
| Approximately 3.1 miles upstream of State Highway 36 | +3473
Railroad Spill Flow-Battle Creek | Just upstream of the confluence with Battle Creek | +3290 | Town of Hermosa, Unincorporated Areas of Custer County.
| Just downstream of the divergence from Battle Creek | +3294
South Bank Split Flow-Battle Creek | Approximately 1,200 feet upstream of the confluence with Battle Creek | +3310 | Unincorporated Areas of Custer County.
| Approximately 870 feet upstream of Yellow Oak Road | +3325
* National Geodetic Vertical Datum. + North American Vertical Datum. # Depth in feet above ground. ‸ Mean Sea Level, rounded to the nearest 0.1 meter.
ADDRESSES
Town of Hermosa
Maps are available for inspection at 420 Mount Rushmore Road, Custer, SD 57730.
Unincorporated Areas of Custer County
Maps are available for inspection at 420 Mount Rushmore Road, Custer, SD 57730.
Sanborn County, South Dakota, and Incorporated Areas
Docket No. FEMA-B-1158
Branch 4 of Ditch 21 | At the confluence with County Ditch No. 6 and County Ditch No. 8 | +1298 | Unincorporated Areas of Sanborn County.
| Just downstream of 227th Street | +1305
County Ditch No. 6 | At the confluence with County Ditch No. 8 and Branch 4 of Ditch 21 | +1298 | Unincorporated Areas of Sanborn County.
| Approximately 630 feet upstream of 396th Avenue | +1307
County Ditch No. 7 | Approximately 350 feet downstream of 397th Avenue | +1300 | City of Woonsocket, Unincorporated Areas of Sanborn County.
| Approximately 0.6 mile upstream of 396th Avenue | +1302
County Ditch No. 8 | Approximately 0.6 mile downstream of 398th Avenue | +1292 | City of Woonsocket, Unincorporated Areas of Sanborn County.
| At the confluence with County Ditch No. 6 and Branch 4 of Ditch 21 | +1298
Dry Run 8 | At the confluence with County Ditch No. 8 | +1295 | Unincorporated Areas of Sanborn County.
| Approximately 1.3 miles upstream of the confluence with County Ditch No. 8 | +1297
* National Geodetic Vertical Datum. + North American Vertical Datum. # Depth in feet above ground. ‸ Mean Sea Level, rounded to the nearest 0.1 meter.
ADDRESSES
City of Woonsocket
Maps are available for inspection at City Hall, 103 South 3rd Avenue, Woonsocket, SD 57385.
Unincorporated Areas of Sanborn County
Maps are available for inspection at the Sanborn County Government Offices, 604 West 6th Street, Woonsocket, SD 57385.
Marion County, Tennessee, and Incorporated Areas
Docket No. FEMA-B-1134
Little Sequatchie River | Approximately 2,500 feet downstream of Valley View Highway | +628 | Unincorporated Areas of Marion County.
| Approximately 1,400 feet downstream of Valley View Highway | +630
Town Creek | Just upstream of U.S. Route 64 | +619 | Town of Jasper.
| Approximately 4,000 feet upstream of U.S. Route 64 | +619
West Fork Pryor Cove Branch | At the confluence with Pryor Cove Branch | +717 | Town of Jasper, Unincorporated Areas of Marion County.
| Approximately 3,200 feet upstream of the confluence with Pryor Cove Branch | +784
* National Geodetic Vertical Datum. + North American Vertical Datum. # Depth in feet above ground. ‸ Mean Sea Level, rounded to the nearest 0.1 meter.
ADDRESSES
Town of Jasper
Maps are available for inspection at 4460 Main Street, Jasper, TN 37347.
Unincorporated Areas of Marion County
Maps are available for inspection at 4460 Main Street, Jasper, TN 37347.
Taylor County, Texas, and Incorporated Areas
Docket Nos. FEMA-B-1060 and B-1170
Button Willow Creek | Just downstream of Treadway Boulevard | +1756 | City of Abilene.
| Just upstream of Beltway South | +1825
Cat Claw Creek | At the confluence with Elm Creek | +1677 | City of Abilene, Unincorporated Areas of Taylor County.
| Approximately 2 miles upstream of FM 707 | +1842
Cat Claw Creek Diversion Channel | At the confluence with Cat Claw Creek | +1758 | City of Abilene.
| Just upstream of Nonesuch Road | +1762
Cat Claw Creek Diversion Channel 1 | At the confluence with Cat Claw Drive Channel | +1762 | City of Abilene.
| Just upstream of Nonesuch Road | +1762
Cat Claw Drive Channel | Just downstream of Southwest Drive | +1762 | City of Abilene.
| At the confluence with Cat Claw Creek | +1777
Cedar Creek | Just upstream of North 10th Street | +1688 | City of Abilene, Unincorporated Areas of Taylor County.
| Just downstream of Beltway South | +1791
Elm Creek | Approximately 0.7 mile downstream of Nugent Road | +1650 | City of Abilene, Town of Impact, Unincorporated Areas of Taylor County.
| Approximately 1 mile upstream from FM 707 | +1831
Elm Creek Diversion 1 | At the confluence with Elm Creek | +1725 | City of Abilene.
| Just downstream of Don Juan Street | +1727
Elm Creek Loop 1 | Ending at the lower confluence with Elm Creek | +1656 | City of Abilene, Unincorporated Areas of Taylor County.
| Starting at the upper confluence with Elm Creek | +1663
Elm Creek Overflow | At the confluence with Little Elm Creek | +1732 | City of Abilene.
| Approximately 1,800 feet upstream of Twylight Trail | +1769
Elm Creek Overflow Path 1 | At the confluence with Swale A-1 | +1685 | City of Abilene.
| Just upstream of Ambler Avenue | +1701
Elm Creek Overflow Path 1-A | At the confluence with Elm Creek Overflow Path 1 | +1696 | City of Abilene.
| Approximately 0.5 mile upstream of Ambler Avenue | +1702
Elm Creek Overflow Path 2 | At the confluence with Elm Creek | +1702 | City of Abilene.
| Just downstream of Texas and Pacific Railroad | +1721
Elm Creek to Cedar Creek Overflow | Approximately 1.3 miles downstream of FM 3308 | +1646 | City of Abilene, Unincorporated Areas of Taylor County.
| Just downstream of FM 3308 | +1656
Indian Creek | At the confluence with Elm Creek | +1693 | City of Abilene, Unincorporated Areas of Taylor County.
| Approximately 0.9 mile upstream of Shirley Road | +1699
Little Elm Creek | At the confluence with Elm Creek | +1702 | City of Abilene, Unincorporated Areas of Taylor County.
| Approximately 1 mile upstream of Dyess Air Force Service Road | +1784
Little Elm Creek Overflow A | At the confluence with Little Elm Creek | +1729 | City of Abilene.
| At the confluence with Elm Creek Overflow | +1750
Lytle Creek | At the confluence with Cedar Creek | +1697 | City of Abilene, Unincorporated Areas of Taylor County.
| Just downstream of County Road 111-1 | +1760
Rainy Creek | Just downstream of Lowden Street | +1670 | City of Abilene.
| Just downstream of North 10th Street | +1696
Swale A | Just upstream of I-20 | +1685 | City of Abilene.
| Just downstream of State Street | +1713
Swale A-1 | Just upstream of I-20 | +1685 | City of Abilene.
| Just downstream of Yale Avenue | +1715
Tributary No. 1 to Elm Creek | At the confluence with Elm Creek | +1767 | City of Abilene, Unincorporated Areas of Taylor County.
| Approximately 1.6 miles upstream of Rebecca Lane | +1792
Tributary No. 1 to Little Elm Creek | Just downstream of I-20 Business | +1712 | City of Abilene.
| Approximately 1.5 miles upstream of I-20 Business | +1734
Tributary No. 2 to Elm Creek | At the confluence with Elm Creek | +1781 | City of Abilene, Unincorporated Areas of Taylor County.
| Just upstream of County Road 314 | +1811
Unnamed Tributary to Cat Claw Creek | At the confluence with Cat Claw Creek | +1803 | City of Abilene.
| Approximately 600 feet upstream of Rio Mesa Road | +1821
Unnamed Tributary to Rainy Creek | At the confluence with Rainy Creek | +1694 | City of Abilene.
| Just downstream of Stamford Street | +1695
* National Geodetic Vertical Datum. + North American Vertical Datum. # Depth in feet above ground. ‸ Mean Sea Level, rounded to the nearest 0.1 meter.
ADDRESSES
City of Abilene
Maps are available for inspection at 555 Walnut Street, Abilene, TX 79601.
Town of Impact
Maps are available for inspection at 555 Walnut Street, Abilene, TX 79602.
Unincorporated Areas of Taylor County
Maps are available for inspection at 400 Oak Street, Suite 107, Abilene, TX 79602.
La Crosse County, Wisconsin, and Incorporated Areas
Docket No. FEMA-B-1155
Black River | Approximately 0.5 mile downstream of the confluence with Davis Creek | +694 | Unincorporated Areas of La Crosse County.
| Approximately 3.36 miles upstream of the confluence with Hardies Creek | +706
Ebner Coulee Main Channel | Approximately 1,584 feet downstream of 29th Street | +659 | City of La Crosse, Unincorporated Areas of La Crosse County.
| Approximately 1,584 feet upstream of 29th Street | +697
Ebner Coulee Southeast Bank | Approximately 52.8 feet upstream of 29th Street | +665 | City of La Crosse.
| Approximately 528 feet upstream of 29th Street | +673
* National Geodetic Vertical Datum. + North American Vertical Datum. # Depth in feet above ground. ‸ Mean Sea Level, rounded to the nearest 0.1 meter.
ADDRESSES
City of La Crosse
Maps are available for inspection at City Hall, 400 La Crosse Street, La Crosse, WI 54601.
Unincorporated Areas of La Crosse County
Maps are available for inspection at 400 4th Street North, La Crosse, WI 54601.

(Catalog of Federal Domestic Assistance No. 97.022, “Flood Insurance.”)

Dated: December 5, 2011.
Sandra K. Knight,
Deputy Associate Administrator for Mitigation, Department of Homeland Security, Federal Emergency Management Agency.

[FR Doc. 2011-32595 Filed 12-20-11; 8:45 am]

BILLING CODE 9110-12-P